FEDERAL TRADE COMMISSION

16 CFR Part 305

Rule Concerning Disclosures Regarding Energy Consumption and Water Use of Certain Home Appliances and Other Products Required Under the Energy Policy and Conservation Act (“Appliance Labeling Rule”)

Correction

In rule document 06-882 beginning on page 4983 in the issue of Tuesday, January 31, 2006, make the following corrections:

Appendix A7 to Part 305 [Corrected]

1. On page 4985, in Appendix A7 to Part 305, in the third column, in the table heading for Appendix A7, in the third line, “Without” should read “With”,

Appendix B1 to Part 305 [Corrected]

2. On page 4986, in Appendix B1 to Part 305, in in the first column, in the table, under the column entitled “High”, in the sixth entry, “341” should read “454”.

[FR Doc. C6-882 Filed 5-17-06; 8:45 am]

BILLING CODE 1505-01-D